FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 9, 2021.

A. Federal Reserve Bank of Chicago (Colette A. Fried, Assistant Vice President) 230 South LaSalle Street, Chicago, Illinois 60690-1414:

1. Steven C. Bell, as trustee of the Paula Bell 2009 Grantor Trust No. 1 fbo Rebecca L. Kettleson, the Paula Bell 2009 Grantor Trust No. 1 fbo Elizabeth Bell Killian, the Paula Bell 2009 Grantor Trust No. 1 fbo Margaret S. Bell; all of Wisconsin Rapids, Wisconsin; and Chad D. Kane, as trustee of The Kane 2020 Investment Trust; Sarah L. Kane Investment Trust; Alison R. Kane Investment Trust; and the Jack C. Kane Investment Trust, all of Wausau, Wisconsin; to become members of the Bell Family Control Group, a group acting concert, to retain voting shares of WoodTrust Financial Corporation, and thereby indirectly retain voting shares of WoodTrust Bank, both of Wisconsin Rapids, Wisconsin.

B. Federal Reserve Bank of Minneapolis (Chris P. Wangen, Assistant Vice President) 90 Hennepin Avenue, Minneapolis, Minnesota 55480-0291:

1. Michael P. Kampmeyer, Kristi Erickson Kampmeyer, as trustee of the Michael Kampmeyer Irrevocable Trust dated 2021, all of Sunfish Lake, Minnesota;

James C. Kron, Marilyn J. Kron, as trustee of the James C. Kron Irrevocable Trust dated 2021, Gary Vander Vorst, as trustee of both the Marilyn J. Kron Irrevocable Trust dated 2021, all of Hudson, Wisconsin and of the Kristi Erickson Kampmeyer Irrevocable Trust dated 2021, Sunfish Lake, Minnesota; and

Kristi Erickson Kampmeyer and Gary Vander Vorst, as co-trustees of the Claire L. Erickson Irrevocable Trust fbo Kristi Erickson Kampmeyer and Descendants dated July 16, 2020, and the Claire L. Erickson Irrevocable Trust II fbo Kristi Erickson Kampmeyer and Descendants dated July 16, 2020, both trusts of Sunfish Lake, Minnesota;

to retain voting shares of Waseca Bancshares, Inc., Waseca, Minnesota, and indirectly retain voting shares of Roundbank, Waseca, Minnesota, and Lake Area Bank, Lindstrom, Minnesota, and to join the Kampmeyer group acting in concert.

Board of Governors of the Federal Reserve System, March 19, 2021.
Michele Taylor Fennell,
Deputy Associate Secretary of the Board.

[FR Doc. 2021-06136 Filed 3-24-21; 8:45 am]

BILLING CODE P